DEPARTMENT OF ENERGY

Federal Energy Regulatory Commission

[Docket Nos. ER99-3144-003, ER99-3144-004 and ER99-3144-005; EC99-80-003, EC99-80-004, and EC99-80-005, ER00-2869-000 and EC00-103-000 (not consolidated)]

Request for Information Regarding Grandfathered Contracts Prior to Convening Session

February 2, 2001.

In the matter of: American Electric Power Service Corporation on behalf of: Appalachian Power Company, Columbus Southern Power Company, Indiana Michigan Power Company, Kentucky Power Company, Kingsport Power Company, Ohio Power Company, Wheeling Power Company, The Detroit Edison Company, First Energy Corporation on behalf of: The Cleveland Electric Illuminating Company, Ohio Edison Company, Pennsylvania Power Company, The Toledo Edison Company, Virginia Electric and Power Company, Consumers Energy Company.

Pursuant to the order in Alliance Companies, et al., 91 FERC ¶ 61,070 (2001), the Commission directed parties with grandfathered contracts whose terms extend beyond the transition period to negotiate amendments or termination of such contracts. To assist the parties, the Commission directed the Director of the Commission's Dispute Resolution Service (DRS) to convene a meeting of the parties to explore the use of an ADR process to foster negotiation and agreement.

All parties with grandfathered agreements that are the subject of the Commission's order, as described above, are requested to contact the DRS. To contact the DRS, please send an e-mail including the name, telephone number and e-mail address of the party contact as well as the title and description of the grandfathered contract(s) involved to Amy.Blauman@ferc.fed.us no later than February 16, 2001. The DRS can also be reached at (202) 208-2143.

The DRS is tentatively planning to hold the convening session during the week of March 4, 2001. However, the DRS will be in contact with the parties who respond to this request to select an appropriate date and location for the meeting. A notice of the date and location of the convening session will be issued at a later date.

David P. Boergers,
Secretary.

[FR Doc. 01-3262 Filed 2-7-01; 8:45 am]

BILLING CODE 6717-01-M